DEPARTMENT OF JUSTICE

Antitrust Division

Notice Pursuant to the National Cooperative Research and Production Act of 1993—Silicon Integration Initiative, Inc.

Notice is hereby given that, on April 13, 2022 pursuant to Section 6(a) of the National Cooperative Research and Production Act of 1993, 15 U.S.C. 4301 et seq. (“the Act”), Silicon Integration Initiative, Inc. (“Si2”) has filed written notifications simultaneously with the Attorney General and the Federal Trade Commission disclosing changes in its membership. The notifications were filed for the purpose of extending the Act's provisions limiting the recovery of antitrust plaintiffs to actual damages under specified circumstances. Specifically, ARM Limited, Cambridgeshire, UNITED KINGDOM; BAE Systems, Inc., Charlotte, NC; Numerical Innovations, Inc., Henderson, NV; Semiconductor Components Industries, LLC dba onsemi, Phoenix, AZ; proteanTecs, Haifa, ISREAL; Sanayi System Co., Ltd., Incheon, REPUBLIC OF KOREA; TexEDA Design GmbH, Brandenburg, GERMANY; and Tokyo Electron America Inc., Austin, TX have been added as parties to this venture.

Also, AMSIMCEL SRL, Shanghai, PEOPLE'S REPUBLIC OF CHINA; Hongzhunda, Shanghai, PEOPLE'S REPUBLIC OF CHINA; Marvell Semiconductor, Inc., Santa Clara, CA; and Nanjing Industrial Innovation Center of EDA, Nanjing, PEOPLE'S REPUBLIC OF CHINA have withdrawn as parties to this venture.

Additionally, Fractal Technologies, Los Gatos, CA, was acquired by existing member Siemens Industry Software, Inc., Wilsonville, OR; ams AG, Premstaetten, AUSTRIA has changed its name to ams-OSRAM AG; Silicon Technologies, Midvale, UT has changed its name to Silicon Technologies, Inc.; and SK Hynix Inc., Gyeonggi-do, REPUBLIC OF KOREA has changed its name to SK hynix.

No other changes have been made in either the membership or planned activity of the group research project. Membership in this group research project remains open, and Si2 intends to file additional written notifications disclosing all changes in membership.

On December 30, 1988, Si2 filed its original notification pursuant to Section 6(a) of the Act. The Department of Justice published a notice in the Federal Register pursuant to Section 6(b) of the Act on March 13, 1989 (54 FR 10456).

The last notification was filed with the Department on April 15, 2021. A notice was published in the Federal Register pursuant the Section 6(b) of the Act on May 25, 2021 (85 FR 28150).

Suzanne Morris,
Chief, Premerger and Division Statistics, Antitrust Division.

[FR Doc. 2022-10263 Filed 5-12-22; 8:45 am]

BILLING CODE 4410-11-P